DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Monthly Survey of Residential Alterations and Repairs.

Form Number(s): SORAR-705.

Agency Approval Number: 0607-0130.

Type of Request: Revision of a currently approved collection.

Burden: 8,400 hours.

Number of Respondents: 2,800.

Avg. Hours Per Response: 15 minutes.

Needs and Uses: The U.S. Census Bureau is requesting a revision of the currently approved collection for the Quarterly Survey of Residential Alterations and Repairs. The form used to collect this information is SORAR-705. The Census Bureau is responsible for preparing estimates of the expenditures for residential improvement and repairs. This segment of the construction industry amounted to more than $170 billion in 2002. While the majority of the data are gathered from the Consumer Expenditure Survey, a portion of the data ($50 billion in 2002) are collected on the SORAR-705 form. This survey is mailed to a sample of owners of rental or vacant residential properties. Since residential improvement and repairs are a large and growing economic sector, any measure of the construction industry would be incomplete without the inclusion of these data.

In an effort to make our data dissemination more timely, the survey will begin monthly data collection for the January 2004 survey month. To improve the scope of the survey, we will begin to collect expenditures for wall-to-wall carpeting, kitchen appliances, manufactured housing, and rented condominiums that are excluded from the current data collection. To reduce the respondent burden of monthly data collection, we will decrease by 20% the number of improvement queries on the monthly form. For example, siding work done as an “alteration” and siding work done as a “major replacement” are now combined into one siding improvement. Also, we have removed one question from the form, “When was this building or complex originally built?'

The Census Bureau uses the information collected on the SORAR-705 form to publish improvement and repair expenditures for rental and vacant residential properties. Data on improvements and repairs to owner-occupied properties are collected in the Consumer Expenditure Survey. Combined published estimates are used by a variety of private businesses and trade associations for marketing studies, economic forecasts and assessments of the construction industry. They also provide all levels of Government with a tool to evaluate economic policy and measure progress toward established goals. For example, the Bureau of Economic Analysis (BEA) uses the Census Bureau's improvement statistics to develop the residential structures component of the gross private domestic investment in the national income and product accounts.

Affected Public: Individuals or households; business or other for-profit; State, local or Tribal government.

Frequency: Monthly.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 29, 2003.
Madeleine Clayton,
Management Analyst, Office of the Chief Information Officer.

[FR Doc. 03-19656 Filed 8-1-03; 8:45 am]

BILLING CODE 3510-07-P